DEPARTMENT OF TRANSPORTATION

Surface Transportation Board

[STB Finance Docket No. 33931]

Massachusetts Central Railroad Corporation—Acquisition and Operation Exemption—New York Central Lines LLC and CSX Transportation, Inc.

Massachusetts Central Railroad Corporation (MCER), a Class III railroad, has filed a notice of exemption under 49 CFR 1150.41 to acquire from New York Central Lines LLC and CSX Transportation, Inc. (collectively CSX) and operate approximately 1.4 miles ± of line from milepost QBR 0.205 to milepost QBR 1.605, in Palmer, MA.¹

¹ MCER states that it currently leases the line from CSX and operates it.

The earliest the transaction could be consummated was October 6, 2000, the effective date of the exemption (7 days after the exemption was filed). Counsel for MCER has been contacted by telephone and has acknowledged that the transaction could not be consummated until October 6, 2000.

If the verified notice contains false or misleading information, the exemption is void ab initio. Petitions to revoke the exemption under 49 U.S.C. 10502(d) may be filed at any time. The filing of a petition to revoke does not automatically stay the transaction.

An original and 10 copies of all pleadings, referring to STB Finance Docket No. 33931, must be filed with the Surface Transportation Board, Office of the Secretary, Case Control Unit, 1925 K Street, NW., Washington, DC 20423-0001. In addition, one copy of each pleading must be served on James E. Howard, Esq., One Thompson Square, Suite 201, Charlestown, MA 02129.

Board decisions and notices are available on our website at “WWW.STB.DOT.GOV.”

Decided: October 10, 2000.
By the Board, David M. Konschnik, Director, Office of Proceedings.
Vernon A. Williams,
Secretary.

[FR Doc. 00-26653 Filed 10-16-00; 8:45 am]

BILLING CODE 4915-00-P